DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2023, through June 30, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Nancy Wessel, Topeka, Kansas, Court of Federal Claims No: 23-0797V

2. Alfred Englert, Jr., Fort Worth, Texas, Court of Federal Claims No: 23-0798V

3. Valentina Mudrenco on behalf of T. M., Carmichael, California, Court of Federal Claims No: 23-0799V

4. Nikkia Martin on behalf of C. K., Oxon Hill, Maryland, Court of Federal Claims No: 23-0801V

5. Juli Shimp on behalf of Taryn Starck, Deceased, Phoenix, Arizona, Court of Federal Claims No: 23-0802V

6. Patricia West, Chapel Hill, North Carolina, Court of Federal Claims No: 23-0803V

7. Trennese Howard-Lucas, Southfield, Michigan, Court of Federal Claims No: 23-0804V

8. Sarah Pittenger, Lake Ariel, Pennsylvania, Court of Federal Claims No: 23-0807V

9. Jacqueline Grutsch McKinney, Muncie, Indiana, Court of Federal Claims No: 23-0812V

10. Carla Thomas, Columbus, Ohio, Court of Federal Claims No: 23-0814V

11. Valeri Cowart, Birmingham, Alabama, Court of Federal Claims No: 23-0816V

12. Emily Beck, Racine, Wisconsin, Court of Federal Claims No: 23-0817V

13. Danielle Kellogg, Golden, Colorado, Court of Federal Claims No: 23-0819V

14. Zayne Wodzenski, Coraopolis, Pennsylvania, Court of Federal Claims No: 23-0823V

15. Alicia Sawyer on behalf of T. S., Woodstock, Georgia, Court of Federal Claims No: 23-0825V

16. Cara Barger, Dresher, Pennsylvania, Court of Federal Claims No: 23-0826V

17. Neyton Colindres, Los Angeles, California, Court of Federal Claims No: 23-0827V

18. Steven Rios, Ronkonkoma, New York, Court of Federal Claims No: 23-0830V

19. William Wotawa, Boston, Massachusetts, Court of Federal Claims No: 23-0831V

20. Luke Laporta, Phoenix, Arizona, Court of Federal Claims No: 23-0842V

21. Andrea Lynette Ortiz, Belen, New Mexico, Court of Federal Claims No: 23-0845V

22. Juha Oh, Portland, Oregon, Court of Federal Claims No: 23-0847V

23. Barbara Powers, Prescott, Arizona, Court of Federal Claims No: 23-0848V

24. Sharon Engel, Washington, District of Columbia, Court of Federal Claims No: 23-0850V

25. Sean Patrick Regan, Smithtown, New York, Court of Federal Claims No: 23-0851V

26. Amanda Sutton, Phoenix, Arizona, Court of Federal Claims No: 23-0852V

27. John Gautier, Wilmington, North Carolina, Court of Federal Claims No: 23-0860V

28. Sharon Beasley, Dallas, Georgia, Court of Federal Claims No: 23-0861V

29. Marisa Brienza, Toledo, Ohio, Court of Federal Claims No: 23-0863V

30. Judy McMahon, Campbell, California, Court of Federal Claims No: 23-0864V

31. Kristen McKiernan, Boston, Massachusetts, Court of Federal Claims No: 23-0865V

32. Nancy Prante, Olmsted, Ohio, Court of Federal Claims No: 23-0869V

33. Christopher Gorlinski, Salem, Wisconsin, Court of Federal Claims No: 23-0870V

34. Ashley Langelier, Phoenix, Arizona, Court of Federal Claims No: 23-0871V

35. Denise M. Hoctor, Fruita, Colorado, Court of Federal Claims No: 23-0874V

36. Pamela Browning, Easley, South Carolina, Court of Federal Claims No: 23-0875V

37. Iris Rosario, Hartford, Connecticut, Court of Federal Claims No: 23-0876V

38. Deborah Ellison, Clarksville, Tennessee, Court of Federal Claims No: 23-0877V

39. Anna Thompson, Notre Dame, Indiana, Court of Federal Claims No: 23-0881V

40. Rod Senior on behalf of the Estate of Susan Senior, Deceased, Fort Myers, Florida, Court of Federal Claims No: 23-0882V

41. Margaret Hand, Las Vegas, Nevada, Court of Federal Claims No: 23-0883V

42. Mary Levy, North Riverside, Illinois, Court of Federal Claims No: 23-0884V

43. Claudia Thompson, Jacksonville, Florida, Court of Federal Claims No: 23-0885V

44. Giovannina Delli Compagni, Edgewater, New Jersey, Court of Federal Claims No: 23-0886V

45. Jo Hahn, Port St. Lucie, Florida, Court of Federal Claims No: 23-0888V

46. Shelli Getz, Boston, Massachusetts, Court of Federal Claims No: 23-0890V

47. Noelani Bailey, Sacramento, California, Court of Federal Claims No: 23-0892V

48. Gail Cope, Grove City, Ohio, Court of Federal Claims No: 23-0893V

49. Morgan Kirby, Phoenix, Arizona, Court of Federal Claims No: 23-0895V

50. James Rudolph, Washington, District of Columbia, Court of Federal Claims No: 23-0898V

51. Lisa Taylor, Berkeley, California, Court of Federal Claims No: 23-0899V

52. Alisa Inahara, San Diego, California, Court of Federal Claims No: 23-0900V

53. Donna Losego, Washington, District of Columbia, Court of Federal Claims No: 23-0902V

54. Winifred Elberson, White House, Tennessee, Court of Federal Claims No: 23-0903V

55. Gary Kafer, Gatesville, Texas, Court of Federal Claims No: 23-0905V

56. Melissa Malloy, Phoenix, Arizona, Court of Federal Claims No: 23-0907V

57. Dena Long, South Jordan, Utah, Court of Federal Claims No: 23-0912V

58. Valerie Amundsen, Fridley, Minnesota, Court of Federal Claims No: 23-0914V

59. Jennifer Capobianco-Petras, Danvers, Massachusetts, Court of Federal Claims No: 23-0915V

60. Cheeranjiva Dhanrajh, Killeen, Texas, Court of Federal Claims No: 23-0916V

61. Susan Hubbard, Wauwatosa, Wisconsin, Court of Federal Claims No: 23-0917V

62. Cassandra Gibbs, Cincinnati, Ohio, Court of Federal Claims No: 23-0923V

63. Emory Garrett, Duarte, California, Court of Federal Claims No: 23-0924V

64. Jay M. Burrows, Clayton, New York, Court of Federal Claims No: 23-0925V

65. Teresa Jupiter, Florence, South Carolina, Court of Federal Claims No: 23-0927V

66. Jacqueline London, Morris Plains, New Jersey, Court of Federal Claims No: 23-0929V

67. Mary Mahoney, Ellston, Iowa, Court of Federal Claims No: 23-0932V

68. Alexandra Cumming, Phoenix, Arizona, Court of Federal Claims No: 23-0937V

69. Rebecca J. Barger, Honolulu, Hawaii, Court of Federal Claims No: 23-0939V

70. Vicki Mullin, Paso Robles, California, Court of Federal Claims No: 23-0940V

71. Lisa Bakke, Seattle, Washington, Court of Federal Claims No: 23-0941V

72. Nancy Ann Buccigrossi, Wellesley, Massachusetts, Court of Federal Claims No: 23-0943V

73. Elizabeth Pomales-Rodriguez, Wellington, Florida, Court of Federal Claims No: 23-0945V

74. Daniel Alam, Boston, Massachusetts, Court of Federal Claims No: 23-0947V

75. Sharon Kawashiri, Torrance, California, Court of Federal Claims No: 23-0949V

76. Hannah Ellis, Fort Wayne, Indiana, Court of Federal Claims No: 23-0962V

77. Sylvester Barnes, III, Orange, Ohio, Court of Federal Claims No: 23-0963V

78. Nicole Scammell on behalf of V. S., Commack, New York, Court of Federal Claims No: 23-0974V

79. Renae Walker, Atlanta, Georgia, Court of Federal Claims No: 23-0978V

80. Sheryl Leturgey on behalf of B. L., Oswego, Illinois, Court of Federal Claims No: 23-0979V

81. Christine Avery, Seattle, Washington, Court of Federal Claims No: 23-0984V

82. Michael Goncalves, Sacramento, California, Court of Federal Claims No: 23-0985V

83. Garrett Dolling, Reno, Nevada, Court of Federal Claims No: 23-0986V

84. Ainsley McLaughlin, Phoenix, Arizona, Court of Federal Claims No: 23-0987V

85. Robert Wilson, Houston, Texas, Court of Federal Claims No: 23-0988V

86. Avery Carter, Harlan, Iowa, Court of Federal Claims No: 23-0989V

87. Linda McCurdy, Lancaster, Pennsylvania, Court of Federal Claims No: 23-0990V

88. Brenda Coles-Jacobs, Feasterville, Pennsylvania, Court of Federal Claims No: 23-0991V

89. Alexis Rodriguez, Phoenix, Arizona, Court of Federal Claims No: 23-0992V

90. Darlene Roberts, Boston, Massachusetts, Court of Federal Claims No: 23-0993V

91. Kathy Sanders, Newnan, Georgia, Court of Federal Claims No: 23-0996V

92. Joanne Doherty, Boston, Massachusetts, Court of Federal Claims No: 23-0998V

93. Leysa Stotelmyer, Harrisburg, Pennsylvania, Court of Federal Claims No: 23-1001V

94. Gisella Vargas, Neptune, New Jersey, Court of Federal Claims No: 23-1010V

95. Terrill O'Brien, Glassboro, New Jersey, Court of Federal Claims No: 23-1011V

96. Louis Massa, Akron, Ohio, Court of Federal Claims No: 23-1012V

97. Daisy Jutting, Hayti, South Dakota, Court of Federal Claims No: 23-1014V

98. Amanda Rivera on behalf of A. R., Phoenix, Arizona, Court of Federal Claims No: 23-1017V

99. Kelly Joyner, Columbia, South Carolina, Court of Federal Claims No: 23-1020V

[FR Doc. 2023-17795 Filed 8-17-23; 8:45 am]

BILLING CODE 4165-15-P